RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collection.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques for other forms of information technology.

Title and purpose of information collection:

Application for Survivor Insurance Annuities: OMB 3220-0030

Under Section 2(d) of the Railroad Retirement Act (RRA), monthly survivor annuities are payable to surviving widow(er)s, parents, unmarried children, and in certain cases, divorced wives (husbands), mothers (fathers), remarried widow(er)s, and grandchildren of deceased railroad employees. The collection obtains the information required by the RRB to determine entitlement to and amount of the annuity applied for.

The RRB currently utilizes Form(s), AA-17, Application for Widow(ers) Annuity, AA-17b Applications for Determination of Widow(er) Disability, AA-18, Application for Mother's/Father's and Child's Annuity, AA-19, Application for Child's Annuity, AA-19a, Application for Determination of Child Disability, and AA-20, Application for Parent's Annuity to obtain the necessary information. One response is requested of each respondent. Completion is required to obtain benefits. The RRB is proposing no changes to any of the forms currently in the information collection.

The RRB is proposing the addition of an electronic equivalent of Forms AA-17, AA-18, AA-19, and AA-20 to the collection. The information, which will be collected electronically by RRB field office staff, will mirror that obtained on manual forms AA-17, AA-18, AA-19, and AA-20. Upon completion of the electronic AA-17, AA-18, AA-19, and AA-20 application process, the applicant will receive Form AA-17cert, Application Summary and Certification, which will summarize all of the information provided by/or verified by the applicant. Implementation of the AA-17cert will largely eliminate the need for the manual versions of the AA-17, AA-18, AA-19, and AA-20. However, the RRB will still use the manual form in instances where the RRB representative is unable to contact the applicant in person or by telephone. For example, the applicant lives in another country. The RRB has no plans to collect Form AA-17b and AA-19a information electronically at the present time. One response will be requested of each respondent. Completion will be required to obtain benefits.

Estimate of Annual Respondent Burden

The estimated annual respondent burden is as follows:

Form Nos. | Annual responses | Time (min) | Burden (hrs)
AA-17 (manual, without assistance) | 150 | 45 | 113
AA-17b (with assistance) | 380 | 40 | 253
AA-17b (without assistance) | 20 | 50 | 17
AA-17cert | 3,265 | 20 | 1,088
AA-18 (manual, without assistance) | 12 | 45 | 9
AA-19 (manual, without assistance) | 9 | 45 | 7
AA-19a (with assistance) | 285 | 45 | 214
AA-19a (without assistance) | 15 | 65 | 16
AA-20 (manual, without assistance) | 1 | 45 | 1

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 00-19513 Filed 8-1-00; 8:45 am]

BILLING CODE 7905-01-M